NATIONAL AERONAUTICS AND SPACE ADMINISTRATION

[Notice (01-057)]

NASA Advisory Council, Biological and Physical Research Advisory Committee, Commercial Advisory Subcommittee; Meeting

AGENCY: National Aeronautics and Space Administration.

ACTION: Notice of meeting.

SUMMARY: In accordance with the Federal Advisory Committee Act, Pub. L. 92-463, as amended, the National Aeronautics and Space Administration announces a meeting of the NASA Advisory Council, Biological and Physical Research Advisory Committee, Commercial Advisory Subcommittee.

DATES: Wednesday, June 13, 2001, 8:00 a.m. to 5:00 p.m.

ADDRESSES: National Aeronautics and Space Administration, Room MIC-7, 300 E Street, SW., Washington, DC 20546.

FOR FURTHER INFORMATION CONTACT: Ms. Candace Livingston, Code UM, National Aeronautics and Space Administration, Washington, DC 20546, 202-358-0697.

SUPPLEMENTARY INFORMATION: The meeting will be open to the public to the seating capacity of the room. Advance notice of attendance to the Executive Secretary is requested.

The agenda for the meeting will include the following topics:

• Maximize Commercial Research within current International Space Station (ISS) accommodations

• Reducing the cost of accessing the ISS

• Commercial Hardware Development for use on the ISS

• Sharing of Commercial Hardware

• Restructure of the ISS Research Program and Priorities

It is imperative that the meeting be held on this date to accommodate the scheduling priorities of the key participants. Visitors will be requested to sign a visitor's register.

Dated: May 3, 2001.
Beth M. McCormick,
Advisory Committee Management Officer, National Aeronautics and Space Administration.

[FR Doc. 01-11557 Filed 5-7-01; 8:45 am]

BILLING CODE 7510-01-M